BROADCASTING BOARD OF GOVERNORS

Sunshine Act Meeting

DATE AND TIME: Thursday, October 30, 2014, 9:30 a.m.-12:00 p.m. EDT.

PLACE: Cohen Building, Room 3321, 330 Independence Ave. SW., Washington, DC 20237.

SUBJECT: Notice of Meeting of the Broadcasting Board of Governors.

SUMMARY: The Broadcasting Board of Governors (Board) will be meeting at the time and location listed above. The Board will vote on a consent agenda consisting of the minutes of its August 13, 2014 meeting and a resolution to propose Board meeting dates in 2015. The Board will consider establishing a new Board special committee on the future of the Voice of America. The Board will convene a panel discussion titled, “What's the Secret to Media Brand Loyalty? Storytelling in the Digital Age.”

This meeting will also be available for public observation via streamed webcast, both live and on-demand, on the agency's public Web site at www.bbg.gov. Information regarding this meeting, including any updates or adjustments to its starting time, can also be found on the agency's public Web site.

The public may also attend this meeting in person at the address listed above as seating capacity permits. Members of the public seeking to attend the meeting in person must register at https://bbgboardmeetingoctober2014.eventbrite.com by 12:00 p.m. (EDT) on October 29. For more information, please contact BBG Public Affairs at (202) 203-4400 or by email at pubaff@bbg.gov.

CONTACT PERSON FOR MORE INFORMATION: Persons interested in obtaining more information should contact Oanh Tran at (202) 203-4545.

Oanh Tran,
Director of Board Operations.

[FR Doc. 2014-25381 Filed 10-22-14; 11:15 am]

BILLING CODE 8160-01-P